DEPARTMENT OF JUSTICE

Notice of Lodging of Proposed Consent Decree Under the Clean Air Act

On March 29, 2022, the Department of Justice lodged a proposed Consent Decree with the United States District Court for the District of Utah in the lawsuit entitled United States and the State of Utah v. EP Energy E&P Company, L.P., Civil Action No. 2:22-cv-00225-DBB.

This is a civil action for injunctive relief and civil penalties brought by the United States and the State of Utah against EP Energy E&P Company L.P. (“EP Energy”) under the Clean Air Act. The Complaint alleges unlawful emissions of volatile organic compounds from storage vessels and their associated vapor control systems that were part of EP Energy's oil and natural gas production systems in the Uinta Basin oil and natural gas production well operations in Utah. The Consent Decree requires EP Energy to institute a comprehensive injunctive program to help ensure it will design, operate, and maintain approximately 250 production facilities in compliance with federal and state law. EP Energy will also pay a $700,000 penalty, to be split evenly between the United States and Utah, and implement a mitigation project at a cost of approximately $1.2 million that will reduce EP Energy's volatile organic compound and methane emissions.

The publication of this notice opens a period for public comment on the proposed Consent Decree. Comments should be addressed to the Assistant Attorney General, Environment and Natural Resources Division, and should refer to United States and the State of Utah v. EP Energy E&P Company, L.P., D.J. Ref. No. 90-5-2-1-12299/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: https://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $26.00 (25 cents per page reproduction cost) payable to the United States Treasury.

Jeffrey Sands,
Assistant Section Chief, Environmental Enforcement Section, Environment and Natural Resources Division.

[FR Doc. 2022-07038 Filed 4-1-22; 8:45 am]

BILLING CODE 4410-15-P